DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by May 31, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Agricultural Resource Management and Chemical Use Surveys—Substantive Change.

OMB Control Number: 0535-0218.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The National Agricultural Statistics Service (NASS) is requesting a substantive change to the ARMS and Chemical Use Survey information collection request (OMB No. 0535-0218) for the 2022 ARMS Phase 1 (Screening Survey), ARMS Phase 2, Chemical Use, and ARMS Phase 3 (Costs and Returns Survey). The change is needed for two purposes:

• Announce target commodities for the 2022 cycle, and

• To collect data from additional historically underserved farm producer groups.

The target commodities for the 2022 cycle are: Wheat (winter, Durum, and other spring wheat), potatoes, and vegetable chemical use. Collecting data from additional historically underserved farm producer groups is in response to the Biden Administration's top priority of advancing equity for all Americans.

The changes to these surveys will increase burden hours by 7,035 for a new total of 127,863 hours for this information collection request.

Need and Use of the Information: USDA's Economic Research Service will likely incorporate the data in their standard publications which will adhere to their normal publication schedules. In addition, ERS has the expectation that the data will be used to generate additional reports, bulletins, and journal articles.

Description of Respondents: Farms and Ranches.

Number of Respondents: 131,930.

Frequency of Responses: Reporting: Less than five times per year.

Total Burden Hours: 127,863.

Dated: April 26, 2022.
Levi Harrell,
Departmental Information Collection Clearance Officer.

[FR Doc. 2022-09236 Filed 4-28-22; 8:45 am]

BILLING CODE 3410-20-P